FEDERAL COMMUNICATIONS COMMISSION

47 CFR Part 79

[ET Docket No. 13-49 Report No. 3004]

Petitions for Reconsideration of Action in Rulemaking Proceeding

AGENCY: Federal Communications Commission.

ACTION: Petition for reconsideration.

SUMMARY: Petitions for Reconsideration (Petitions) have been filed in the Commission's Rulemaking proceeding by Chuck Powers, on behalf of Motorola Solutions, Inc., John Cimko, on behalf of Mimosa Network. Inc., Chuck Hogg, on behalf of Wireless Internet Service Providers Association, Daniel Zimmerman, on behalf of JAB Wireless, Inc., Jennifer A. Manner, on behalf of ECHOSTAR Technologies, L.L.C., David Kaufman, on behalf of Cambium Networks Ltd, and Frederick M. Joyce, on behalf of Global Automakers, Inc.

DATES: Oppositions to the Petitions must be filed by August 14, 2014. Replies to an opposition must be filed by August 25, 2014.

ADDRESSES: Federal Communications Commission, 445 12th Street SW., Washington, DC 20554.

FOR FURTHER INFORMATION CONTACT: For additional information on this proceeding, contact Aole Wilkins, Office of Engineering and Technology, (202) 418-2406, or by email Aole.Wilkins@fcc.gov.

SUPPLEMENTARY INFORMATION: This is a summary of Commission's document, Report No. 3004, released July 14, 2014. The full text of this document is available for viewing and copying in Room CY-B402, 445 12th Street SW., Washington, DC, or may be purchased from the Commission's copy contractor, Best Copy and Printing, Inc. (BCPI) (1-800-378-3160). The Commission will not send a copy of this Notice pursuant to the Congressional Review Act, 5 U.S.C. 801(a)(1)(A), because this Notice does not have an impact on any rules of particular applicability.

Subject: In the Matter of Revision of Part 15 of the Commission's Rules to Permit Unlicensed National Information Infrastructure (U-NII) Devices in the 5 GHz Band, ET Docket No. 13-49, published at 79 FR 24569, May 1, 2014, and this notice is published pursuant to 47 CFR 1.429(e) of the Commission's rules. See also 47 CFR 1.4(b)(1) of the Commission's rules.

Number of Petitions Filed: 7.

Federal Communications Commission.
Marlene H. Dortch,
Secretary.

[FR Doc. 2014-17931 Filed 7-29-14; 8:45 am]

BILLING CODE 6712-01-P